DEPARTMENT OF HEALTH AND HUMAN SERVICES

Centers for Disease Control and Prevention

[30Day-09-09AN]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

National Youth Physical Activity and Nutrition Study (NYPANS)—New—National Center for Chronic Disease Prevention and Health Promotion (NCCDPHP), Centers for Disease Control and Prevention (CDC).

Background and Brief Description

The prevalence of obesity among adolescents aged 12 to 19 more than tripled in the past 20 years, increasing from 5% in 1980 to 17.6% in 2006. Obese young people are more likely than children of normal weight to become overweight or obese adults, and are therefore more at risk for associated adult health problems, including heart disease, type 2 diabetes, stroke, several types of cancer, and osteoarthritis. However, healthy lifestyle habits, including healthy eating and physical activity, can lower the risk of becoming obese and developing related diseases.

CDC proposes to conduct a study involving a nationally representative sample of students attending public and private schools in grades 9-12. CDC will collect information from students in Spring 2010. The primary information collection will include a paper-and-pencil survey, a standardized protocol to measure height and weight, and telephone interviews to elicit 24-hour dietary recalls among a subsample of respondents. Information supporting the study also will be collected from school administrators and teachers.

The study will: (1) Provide nationally representative data on behaviors and behavioral determinants related to physical activity and nutrition; (2) provide data to help improve the clarity and strengthen the validity of questions on the Youth Risk Behavior Survey (OMB No. 0920-0493, exp. 11/30/2011), which has been conducted biennially since 1991; and (3) improve understanding of the associations among behaviors and behavioral determinants related to physical activity and nutrition, and their association with body mass index.

Study results will be used to develop more effective interventions for stemming the increase of obesity among adolescents, and will have implications for policy and program development for obesity prevention programs.

There are no costs to respondents except their time. The total estimated burden hours are 7,781.

Estimated Annualized Burden Hours
Type of respondents | Form name | Number of respondents | Number of responses per respondent | Average burden per response (in hours)
State Education Agency Contacts | State Recruitment Script | 17 | 1 | 30/60
School District Contacts | District Recruitment Script | 80 | 1 | 30/60
School Administrators | School Recruitment Script | 133 | 1 | 30/60
Teachers | Data Collection Checklist and Make-up Form | 400 | 1 | 15/60
Students | NYPANS Questionnaire | 8,000 | 1 | 45/60
| Height and Weight Record Form | 8,000 | 1 | 3/60
| Student Contact Form | 1,200 | 1 | 2/60
| 24-Hour Dietary Recall Interview Script | 750 | 3 | 30/60

Dated: June 15, 2009.
Maryam I. Daneshvar,
Acting Reports Clearance Officer, Centers for Disease Control and Prevention.

[FR Doc. E9-14411 Filed 6-18-09; 8:45 am]

BILLING CODE 4163-18-P